DEPARTMENT OF STATE

[Public Notice 8459]

Notice of Public Meeting of the President's Emergency Plan for AIDS Relief (PEPFAR) Scientific Advisory Board

SUMMARY: In accordance with the Federal Advisory Committee Act (FACA), the PEPFAR Scientific Advisory Board (hereinafter referred to as “the Board”) will meet from October 2-3, 2013 at the Sheraton Crystal City at 1800 Jefferson Davis Hwy, Arlington, Virginia 22202. The meeting will last from 9 a.m. until approximately 5 p.m. on October 2nd and from 9 a.m. until approximately 3 p.m. on October 3rd and is open to the public.

The meeting will be hosted by the Office of the U.S. Global AIDS Coordinator, and led by Ambassador Eric Goosby, who leads implementation of the President's Emergency Plan for AIDS Relief (PEPFAR).

The Board serves the Global AIDS Coordinator in a solely advisory capacity concerning scientific, implementation, and policy issues related to the global response to HIV/AIDS. These issues will be of concern as they influence the priorities and direction of PEPFAR evaluation and research, the content of national and international strategies and implementation, and the role of PEPFAR in international discourse regarding an appropriate and resourced response. Topics for the meeting will include an update on current PEPFAR-funded implementation science activities; recommendations to Ambassador Goosby on the care and treatment cascade, adherence/retention issues; and research priorities for the PEPFAR portfolio.

The public may attend this meeting as seating capacity allows. Admittance to the meeting will be by means of a pre-arranged clearance list. In order to be placed on the list and, if applicable, to request reasonable accommodation, please register at www.regonline.com/pepfarsab. While the meeting is open to public attendance, the Board will determine procedures for public participation. Requests for reasonable accommodation that are made after September 25, might not be possible to fulfill.

For further information about the meeting, please contact Dr. Amy DuBois, Acting Director of the Office of Research and Science, Office of the U.S. Global AIDS Coordinator at PEPFAR_SAB@state.gov.

Dated: August 29, 2013.
Amy DuBois,
Acting Director, Office of Research and Science, Office of the U.S. Global AIDS Coordinator, Department of State.

[FR Doc. 2013-22017 Filed 9-9-13; 8:45 am]

BILLING CODE 4710-10-P